DEPARTMENT OF JUSTICE

Antitrust Division

Notice Pursuant to the National Cooperative Research and Production Act of 1993—Rapid Response Partnership Vehicle

Notice is hereby given that, on October 3, 2025, pursuant to section 6(a) of the National Cooperative Research and Production Act of 1993, 15 U.S.C. 4301 et seq. (“the Act”), Rapid Response Partnership Vehicle (“RRPV”) has filed written notifications simultaneously with the Attorney General and the Federal Trade Commission disclosing changes in its membership. The notifications were filed for the purpose of extending the Act's provisions limiting the recovery of antitrust plaintiffs to actual damages under specified circumstances. Specifically, Acurx Pharmaceuticals Inc., Staten Island, NY; Advanced Concept Innovations, LLC, Lakeland, FL; Altis Biosystems, Inc., Durham, NC; Amplitude Therapeutics, Inc., Boston, MA; Ananda Devices, Inc., Laval, CANADA; Arizona State University, Tempe, AZ; Arzeda Corp, Seattle, WA; Athem LLC, Morrisville, NC; Avocet Bio GmbH, Goettingen, FEDERAL REPUBLIC OF GERMANY; Baebies, Inc., Durham, NC; Barupon L.L.C., Irvine, CA; Beckman Research Institute of the City of Hope, Duarte, CA; Bethyl Laboratories, Inc., Montgomery, TX; BioStrategies LC, Jonesboro, AR; Biopico Systems INC, Irvine, CA; Biosynchronicity Corporation, Bellevue, WA; Blueprint Biosecurity, Washington, DC; CURA Diagnostics, Inc., Woburn, MA; Caci, Inc.—Federal, Chantilly, VA; Cfd Research Corporation, Huntsville, AL; Chembio Diagnostic Systems Inc., Medford, NY; Curavit Clinical Research Corp, Scarsdale, NY; Curi Bio INC, Seattle, WA; Darwin Biosciences, Inc., Broomfield, CO; Diagmetrics Inc., Madison, CT; Dlh, LLC, Bethesda, MD; Dnae Group Holdings Limited, London, UNITED KINGDOM ; Eitr Biologics, Inc., San Diego, CA; Emerja Corporation, Monte Sereno, CA; Enterprise Coding Solutions, LLC, Lombard, IL; Evoworks Bio, Cambridge, MA; Exo Imaging, Inc., Santa Clara, CA; FOMAT Medical Research, Oxnard, CA; Frontier Bio Corporation, Hayward, CA; GCM Pharma, St. Louis, MO; Gerresheimer Glass INC, Vineland, NJ; Global Health Investment Corporation, New York, NY; Grifols Therapeutics LLC, Research Triangle Park, NC; Hesperos, INC, Orlando, FL; Intero Biosystems Inc., Ann Arbor, MI; Jessica Dapelo Enterprises INC, Patchogue, NY; Johns Hopkins Center for Health Security, Baltimore, MD; Jw3 Biotechnologies LLC, Bothell, WA; Kaleo, Inc., Richmond, VA; Kemp Proteins, LLC, Frederick, MD; Kensington Street Consulting LLC, Arlington, VA; Lavik Consulting LLC, Oakland, MD; Lo Biosciences, Rockville, MD; Martin Blanck & Associates LLC, Alexandria, VA; MedMira, Inc., Halifax, CANADA; Methodist Hospital, The, Houston, TX; Micromedics INC, Woodland Hills, CA; Mpf Federal, LLC, Gaithersburg, MD; Nathe Management Consulting LLC, Austin, TX; NeuroAgent AI, Inc., Baltimore, MD; Neuroene Therapeutics INC, Kensington, MD; Next Labs, LLC, Rochester, NY; Northstar Emergency Management, LLC, Pittsburgh, PA; OmniSpirant Limited, Clonmel, IRELAND; Orlance, INC, Seattle, WA; Paratek Pharmaceuticals, INC, Boston, MA; Partner Therapeutics, Inc., Lexington, MA; Quantoom Biosciences SA, Nivelles, KINGDOM OF BELGIUM; Recourse Biologics, Inc., Houston, TX; RenBio, Inc., Long Island City, NY; Rho Federal Systems Division INC, Durham, NC; SIGA Technologies, New York, NY; Sagitta Biotech, Liège, KINGDOM OF BELGIUM; Sandia Biotech, Inc., Albuquerque, NM; Secondcell Bio, New York, NY; Seek Labs, INC, Salt Lake City, UT; Sensanna Inc., Hanover, MD; Serodopa Therapeutics INC, Gainesville, FL; Ship Odyssey, Inc., Sevierville, TN; Silver Lake Research Corporation, Irwindale, CA; Spy Biotech, Ltd., Boston, MA; Synergistic INC, New Baltimore, MI; Synvivo INC, Huntsville, AL; THOR Network Foundation, Sewickley, PA; Temple University-Of the Commonwealth System of Higher Education, Philadelphia, PA; The Charles Stark Draper Laboratory, Inc., Cambridge, MA; The Coalition to Stop Flu, Washington, DC; Thorheed Titan, Washington, DC; Thylacine Biotherapeutics, Inc., Miami Beach, FL; Tissuse Gmbh, Berlin, FEDERAL REPUBLIC OF GERMANY; University of Rochester, Rochester, NY; Vasomune Therapeutics INC, Toronto, CANADA; Virica Biotech Inc., Ottawa, CANADA; and hVIVO, Inc., Boston, MA; have been added as parties to this venture.

Also, Winsight Consulting LLC, St Michaels, MD has withdrawn as a party to this venture.

No other changes have been made in either the membership or planned activity of the group research project. Membership in this group research project remains open, and RRPV intends to file additional written notifications disclosing all changes in membership.

On January 5, 2024, RRPV filed its original notification pursuant to section 6(a) of the Act. The Department of Justice published a notice in the Federal Register pursuant to section 6(b) of the Act on April 16, 2024 (89 FR 26928).

The last notification was filed with the Department on July 7, 2025. The Department of Justice published a notice in the Federal Register pursuant to section 6(b) of the Act on January 20, 2026 (91 FR 2370).

Suzanne Morris,
Deputy Director Civil Enforcement Operations, Antitrust Division.

[FR Doc. 2026-03517 Filed 2-20-26; 8:45 am]

BILLING CODE 4410-11-P